DEPARTMENT OF HEALTH AND HUMAN SERVICES

Centers for Medicare & Medicaid Services

[CMS-1279-N]

Medicare Program; Request for Nominations for the Program Advisory Oversight Committee for the Competitive Acquisition of Durable Medical Equipment and Other Items

AGENCY: Centers for Medicare & Medicaid Services (CMS), HHS.

ACTION: Notice.

SUMMARY: This notice solicits nominations for individuals to serve on the Program Advisory Oversight Committee that will advise the Secretary of Health and Human Services on the establishment of the competitive acquisition of durable medical equipment and certain other items and services under the Medicare program. This notice implements section 302(b)(1) of the Medicare Prescription Drug, Improvement, and Modernization Act (MMA) of 2003. The Secretary will establish the committee. In addition, this committee is exempt from the Federal Advisory Committee Act, 5 U.S.C., appendix 2.

DATES: Nominations will be considered if we receive all of the required information no later than 5 p.m., July 2, 2004.

ADDRESSES: Send nominations to—Division of Community Post Acute Care, Mail stop C5-08-17, Centers for Medicare & Medicaid Services, 7500 Security Boulevard, Baltimore, Maryland 21244-1850. Attention: Sean Dalenberg or Michael Keane. Nominations may also be e-mailed to sdalenberg@cms.hhs.gov or mkeane@cms.hhs.gov.

FOR FURTHER INFORMATION CONTACT: Sean Dalenberg at (410) 786-0300 or Michael Keane at (410) 786-4495. Press inquiries are handled through the CMS Press Office at (202) 690-6145.

SUPPLEMENTARY INFORMATION:

I. Background

Payment for durable medical equipment (DME) is currently based on fee schedule amounts established using reasonable charge data from earlier years. Section 302(b)(1) of the Medicare Prescription Drug, Improvement, and Modernization Act of 2003 (MMA) (Pub. L. 108-173), requires the Secretary of the Department of Health and Human Services to replace the current DME payment methodology for certain items with a competitive acquisition process to improve the effectiveness of Medicare's methodology for setting DME payment amounts. This new bidding process will establish payment for certain durable medical equipment, enteral nutrition, and off-the-shelf orthotics. In addition, the statute requires the Secretary to establish and administer a Program Advisory and Oversight Committee (PAOC) that will provide advice on the development and implementation of the Competitive Acquisition Program.

II. Goals, General Responsibilities, and Composition of the Program Advisory Oversight Committee

A. Goals and General Responsibilities

Section 302 of the MMA, also states that the goals of the committee are to provide advice on the following:

• The implementation of the Competitive Acquisition Program.

• The establishment of financial standards that take into account the needs of small providers.

• The establishment of requirements for collection of data for the efficient management of the program.

• The development of proposals for efficient interaction among manufacturers, providers of services, suppliers, and individuals.

• The establishment of quality standards.

In addition, the MMA states that the committee may also perform additional functions to assist the Secretary.

In accordance with section 302 of the MMA, the Committee will be intact until December 31, 2009. Committee meetings are expected to occur every 2 months during the first year and quarterly thereafter. Committee meetings will be held in the Baltimore/Washington DC area. (We will reimburse travel expenses, which will be based on government per diem rates and travel policy.)

B. Composition of the Program Oversight Committee (PAOC)

We have particular interest in individuals with expertise in DME, prosthetics, orthotics, or supplies (DMEPOS) and competitive bidding, as well as experience in furnishing services and items in the rural and the urban marketplace. The PAOC will be composed of 12 to 15 members from the following broad representation:

• Beneficiary/consumer representatives.

• Physicians and other practitioners.

• Manufacturers.

• Suppliers.

• Professional standards organizations.

• Financial standards specialists.

• Data management specialists.

• Association representatives.

• Experts in shipping fragile medical materials.

• Other. (If you believe that representatives of other specialties or with other skills should be included on the committee, you may indicate the category or respective categories and you may nominate an individual for that category.)

III. Submission of Nominations

This notice is requesting nominations for membership on the PAOC. The Secretary will consider qualified individuals who are nominated and determined to have the expertise required to meet specific agency needs and who will ensure an appropriate balance of membership.

Nominations may be made for one or more qualified individuals and self-nominations will also be accepted. Each nomination must include the following:

1. A letter of nomination that includes the following—

a. Contact information for both the nominator and nominee (if not the same).

b. The category, as specified in section II.B. of this notice for which the nomination is being made (for example, suppliers or association representatives).

2. A curriculum vitae or resume of the nominee that includes a statement of the nominee's current professional responsibilities (not to exceed five pages).

3. A statement that the nominee is willing to serve on the committee for its duration (that is, until December 31, 2009). This statement should also include a discussion of the nominee's relevant experience (not to exceed three pages). (For self-nominations, this information may be included in the nomination letter.)

Authority: Section 302(b) of the Medicare Prescription Drug, Improvement, and Modernization Act of 2003 (MMA).

(Catalog of Federal Domestic Assistance Program No. 93.774, Medicare—Supplementary Medical Insurance Program)

Dated: May 27, 2004.
Mark B. McClellan,
Administrator, Centers for Medicare & Medicaid Services.

[FR Doc. 04-12434 Filed 5-28-04; 8:45 am]

BILLING CODE 4120-01-P